DEPARTMENT OF STATE

[Public Notice 5205]

Announcement of Meetings of the International Telecommunication Advisory Committee

SUMMARY: The International Telecommunication Advisory Committee announces meetings of ITAC Study Group A to debrief the recent meeting of ITU-T Study Group 3 (Charging and accounting) and prepare for ITU-T Study Group 2 (Operational aspects of service provision, networks and performance). Members of the public may participate, and may join in the discussions.

The International Telecommunication Advisory Committee (ITAC) will meet on Wednesday, October 19, 2005, 2-4 p.m. There is one item on the agenda, a debrief of the outcome of the recently-completed meeting of ITU-T Study Group 3. Directions to the venue of the meeting may be obtained from Julian Minard, minardje@state.gov.

The International Telecommunication Advisory Committee (ITAC) will meet by conference call on October 20, 2005 at 2 p.m. to discuss a contribution to ITU-T Study Group 2. Information on the call in number and passcode may be obtained from Julian Minard, minardje@state.gov.

The International Telecommunication Advisory Committee (ITAC) will meet on Tuesday, November 15, 2005 from 9 a.m. to noon to discuss further contributions to ITU-T Study Group 2. Particulars on this meeting may be obtained from Julian Minard, minardje@state.gov.

Dated: October 5, 2005.
Anne D. Jillson,
Director, FACA Support, International Communications & Information Policy, Department of State.

[FR Doc. 05-20548 Filed 10-11-05; 8:45 am]

BILLING CODE 4710-07-P